DEPARTMENT OF ENERGY

Federal Energy Regulatory Commission

Combined Notice of Filings #2

Take notice that the Commission received the following electric rate filings:

Docket Numbers: ER12-360-003.

Applicants: New York Independent System Operator, Inc.

Description: New York Independent System Operator, Inc. submits NYISO compliance filing in response to a June 6, 2013 Order re: NCZ to be effective 1/27/2014.

Filed Date: 6/19/13.

Accession Number: 20130619-5127.

Comments Due: 5 p.m. ET 6/26/13.

Docket Numbers: ER13-1725-000.

Applicants: Duke Energy Carolinas, LLC.

Description: Highlands PPA—RS 337 Revision (2013) to be effective 7/2/2012.

Filed Date: 6/19/13.

Accession Number: 20130619-5015.

Comments Due: 5 p.m. ET 7/10/13.

Docket Numbers: ER13-1726-000.

Applicants: PJM Interconnection, L.L.C.

Description: Original Service Agreement No. 3580; Queue No. Y1-071 to be effective 6/12/2013.

Filed Date: 6/19/13.

Accession Number: 20130619-5074.

Comments Due: 5 p.m. ET 7/10/13.

Docket Numbers: ER13-1727-000.

Applicants: Duke Energy Carolinas, LLC.

Description: Lockhart PPA—RS 332 to be effective 7/2/2012.

Filed Date: 6/19/13.

Accession Number: 20130619-5099.

Comments Due: 5 p.m. ET 7/10/13.

Docket Numbers: ER13-1728-000.

Applicants: Massachusetts Electric Company.

Description: 2013 Rate Update Filing for Massachusetts Electric Borderline Sales Agreement to be effective 11/1/2012.

Filed Date: 6/19/13.

Accession Number: 20130619-5117.

Comments Due: 5 p.m. ET 7/10/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 19, 2013.
Nathaniel J. Davis, Sr.,
Deputy Secretary.

[FR Doc. 2013-15392 Filed 6-26-13; 8:45 am]

BILLING CODE 6717-01-P